NUCLEAR REGULATORY COMMISSION

Sunshine Act Meeting

AGENCY HOLDING MEETING: Nuclear Regulatory Commission.

DATE: Weeks of May 8, 15, 22, 29, June 5, and 12, 2000.

PLACE: Commissioners' Conference Room, 11555 Rockville Pike, Rockville, Maryland.

STATUS: Public and Closed

MATTERS TO BE CONSIDERED:

Week of May 8

Monday, May 8

10 a.m. Briefing on Lessons Learned from the Nuclear Criticality Accident at Tokai-Mura and the Implications on the NRC's Program (Public Meeting) (Contact: Bill Troskoski, 301-415-8076)

Tuesday, May 9

8:55 a.m. Affirmation Session (Public Meeting) (If needed)

9 a.m. Meeting with Stakeholders on Efforts Regarding Release of Solid Material (Public Meeting) (Contact: Frank Cardile, 301-415-6185)

Week of May 15—Tentative

Tuesday, May 16

9:25 a.m. Affirmation Session (Public Meeting) (If needed)

Week of May 22—Tentative

Thursday, May 25

8:30 a.m. Briefing on Operating Reactors and Fuel Facilities (Public Meeting) (Contact: Joe Shea, 301-415-1727)

10:15 a.m. Briefing on Status of Regional Programs, Performance and Plans (Public Meeting) (Contact: Joe Shea, 301-415-1727)

1:30 p.m. Briefing on Improvements to 2.206 Process (Public Meeting) (Contact: Andrew Kugler, 301-415-2828)

Week of May 29—Tentative

Tuesday, May 30

9:25 a.m. Affirmation Session (Public Meeting) (If needed)

Week of June 5

There are no meetings scheduled for the Week of June 5.

Week of June 12—Tentative

Tuesday, June 13

9:25 a.m. Affirmation Session (Public Meeting) (If needed)

9:30 a.m. Meeting with Organization of Agreement States (OAS) and Conference of Radiation Control Program Directors (CRCPD) (Public Meeting) (Contact: Paul Lohaus, 301-415-3340)

1 p.m. Meeting with Korean Peninsula Energy Development Organization (KEDO) and State Department (Public Meeting) (Contact: Donna Chaney, 301-415-2644)

* THE SCHEDULE FOR COMMISSION MEETINGS IS SUBJECT TO CHANGE ON SHORT NOTICE. TO VERIFY THE STATUS OF MEETINGS CALL (RECORDINGS)—(301) 415-1292. CONTACT PERSON FOR MORE INFORMATION: Bill Hill (301) 415-1661.

ADDITIONAL INFORMATION: By a vote of 5-0 on May 3, the Commission determined pursuant to U.S.C. 552b(e) and § 9.107(a) of the Commission's rules that “Affirmation of a: Final Rule: Revision of Part 50, Appendix K, “ECCS Evaluation Models”; b: GPU NUCLEAR, INC., Docket No. 50-219-LT; Petition to Intervene; and, c: MOAB MILL RECLAMATION TRUST, Docket No. 40-3453-LT; Petition to Intervene” (PUBLIC MEETING) be held on May 3, and on less than one week's notice to the public.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: May 5, 2000.
William M. Hill, Jr.,
SECY Tracking Officer, Office of the Secretary.

[FR Doc. 00-11945 Filed 5-9-00; 10:23 am]

BILLING CODE 7590-01-M